DEPARTMENT OF HEALTH AND HUMAN SERVICES

Agency for Healthcare Research and Quality

Notice Of Amendment—OS ARRA Expansion of Research Capabilities To Study CE Complex Patients (R24) SEP Meeting

With this correction notice, the Agency for Healthcare Research and Quality (AHRQ) informs the public of an amendment made to the notice subject mentioned above published on March 18, 2010 Vol. 75, No. 52, Second paragraph of pages 13 135-13136.

The revised should read: “DATE: April 15-16, 2010 (Open on April 15 from 8 a.m. to 8:15 am. and closed for the remainder of the meeting)”.

Dated: March 19, 2010.
Carolyn M. Clancy,
Director.

[FR Doc. 2010-6784 Filed 3-30-10; 8:45 am]

BILLING CODE 4160-90-M